FEDERAL EMERGENCY MANAGEMENT AGENCY

44 CFR Part 67

[Docket No. FEMA-B-7414]

Proposed Flood Elevation Determinations

AGENCY: Federal Emergency Management Agency (FEMA).

ACTION: Proposed rule.

SUMMARY: Technical information or comments are requested on the proposed base (1% annual chance) flood elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the following table.

FOR FURTHER INFORMATION CONTACT: Matthew B. Miller, P.E., Chief, Hazards Study Branch, Mitigation Directorate, FEMA, 500 C Street SW., Washington, DC 20472, (202) 646-3461, or (e-mail) matt.miller@fema.gov.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Acting Administrator, Federal Insurance Administration and Mitigation certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4

2. The tables published under the authority of § 67.4 are proposed to be amended as follows:

BILLING CODE 6718-04-P

Flooding source(s) | Location of referenced elevation | Elevation in feet *(NGVD): Effective | Elevation in feet *(NGVD): Modified | Communities affected
Kansas
Johnson County and Incorporated Areas
Tomahawk Creek | Approximately 3,500 feet upstream of confluence with Indian Creek | *849 | *850 | City of Leawood, City of Overland Park, City of Olathe.
| Approximately 1,600 feet downstream of Roe Avenue | *865 | *866
| Just downstream of Pflumm Road | *1,005 | *1,007
| Approximately 4,800 feet upstream of Pflumm Road | None | *1,034
Tributary No. 2 | At confluence with Tomahawk Creek | None | *853 | City of Leawood.
| Approximately 1,200 feet upstream of Confluence with Tomahawk Creek | None | *859
Tributary No. 3 | At confluence with Tomahawk Creek | None | *859 | City of Leawood.
| Approximately 1,300 feet upstream of confluence with Tomahawk Creek | None | *860
Tributary No. 4 | At confluence with Tomahawk Creek | None | *864 | City of Leawood.
| Approximately 1,500 feet upstream of confluence with Tomahawk Creek | None | *866
Tributary No. 5 | At confluence with Tomahawk Creek | None | *872 | City of Leawood.
| Approximately 1,200 feet upstream of Confluence with Tomahawk Creek | None | *874
Tributary No. 6 | At confluence with Tomahawk Creek | None | *872 | City of Overland Park.
| Approximately 1,850 feet upstream of Confluence with Tomahawk Creek | None | *881
Tributary No. 7 | At confluence with Tomahawk Creek | None | *881 | City of Overland Park.
| Just downstream of Metcalf Avenue | None | *929
Tributary No. 8 | At confluence with Tomahawk Creek | None | *885 | City of Overland Park.
| Approximately 1,000 feet upstream of Confluence with Tomahawk Creek | None | *888
Tributary No. 9 | At confluence with Tomahawk Creek | None | *890 | City of Overland Park.
| Approximately 1,360 feet upstream of Tomahawk Creek | None | *900
Tributary No. 10 | At confluence with Tomahawk Creek | None | *900 | City of Overland Park.
| Approximately 1,100 feet upstream of Foster Street |  | *935
Tributary No. 11 | At confluence with Tomahawk Creek | None | *906 | City of Overland Park.
| Approximately 1,380 feet upstream of Confluence with Tomahawk Creek | None | *912 |
Tributary No. 12 | At confluence with Tomahawk Creek | None | *912 | City of Overland Park.
| Approximately 4,700 feet upstream of Antioch Road | None | *955 |
Tributary No. 12B1 | At confluence with Tomahawk Creek Tributary No. 12 | None | *920 | City of Overland Park.
| Approximately 2,450 feet upstream of Confluence with Tomahawk Creek | None | *938 |
Tributary No. 13 | At confluence with Tomahawk Creek | None | *929 | City of Overland Park.
| Approximately 900 feet upstream of 148th Street | None | *984 |
Tributary No. 13B1 | At confluence with Tomahawk Creek Tributary No. 13 | None | *935 | City of Overland Park.
| Just downstream of Antioch Road | None | *935 |
Tributary No. 13E1 | At confluence with Tomahawk Creek Tributary No. 13 | None | *964 | City of Overland Park.
| Approximately 500 feet upstream of Switzer Road | None | *978 |
Tributary No. 13F1 | At confluence with Tomahawk Creek Tributary No. 13 | None | *979 | City of Overland Park.
| Approximately 1,100 feet upstream of Confluence with Tomahawk Creek Tributary No. 13 | None | *989 |
Tributary No. 17 | At confluence with Tomahawk Creek | None | *977 | City of Overland Park.
| Approximately 610 feet upstream of Confluence with Tomahawk Creek | None | *981 |
Tributary No. 18 | At confluence with Tomahawk Creek | None | *989 | City of Overland Park.
| Approximately 1,100 feet downstream of 143rd Street | None | *997 |
Tributary No. 19 | At confluence with Tomahawk Creek | None | *1,000 | City of Overland Park.
| Approximately 630 feet upstream of Confluence with Tomahawk Creek | None | *1,003 |
Tributary No. 20 | At confluence with Tomahawk Creek | None | *1,011 | City of Olathe, City of Overland Park.
| Approximately 300 feet upstream of Confluence with Tomahawk Creek | None | *1,011
| At confluence with Tomahawk Creek | None | *1,012 | City of Olathe.
Tributary No. 21 | Approximately 760 feet upstream of Confluence with Tomahawk Creek | None | *1,014
ADDRESSES
Johnson County (Unincorporated Areas)
Maps are available for inspection at the Department of Planning, Development and Codes, 111 South Cherry, Suite 3500, Olathe, Kansas.
Send comments to The Honorable Annabeth Surbaugh, Chairman, Johnson County Board of Commissioners, 111 South Cherry, Suite 3300, Olathe, Kansas 66061.
City of Leawood
Maps are available for inspection at the Planning Services Department, 4800 Town Center Drive, Leawood, Kansas.
Send comments to The Honorable Peggy Dunn, Mayor, City of Leawood, 4800 Town Center Drive, Leawood, Kansas 66211.
City of Olathe
Maps are available for inspection at the Planning Department, 100 West Santa Fe, Olathe, Kansas.
Send comments to The Honorable Larry Campbell, Mayor, City of Olathe, P.O. Box 768, Olathe, Kansas 66051-0768.
City of Overland Park
Maps are available for inspection at City Hall, 8500 Santa Fe Drive, Overland Park, Kansas.
Send comments to The Honorable Ed Eilert, Mayor, City of Overland Park, 8500 Santa Fe Drive, Overland Park, Kansas 66313.
TEXAS
Bexar County and Incorporated Areas
Culebra Creek | At confluence with Leon Creek | *772 | *773 | Bexar County (Uninc. Areas), City of San Antonio.
| At Culebra Road | *848 | *849
| Just downstream of Galm Road | *951 | *952
Culebra Creek Split:
No. 1 | At confluence with Culebra Creek | None | *796 | Bexar County (Uninc. Areas), City of San Antonio.
| Approximately 830 feet upstream of Tezel Road | None | *808
No. 2 | At confluence with Culebra Creek (Approximately 200 feet upstream of Tezel Road) | None | *810 | Bexar County (Uninc. Areas).
| Approximately 3,620 feet upstream of Timberwilde | None | *827
No. 3 | At confluence with Culebra Creek (Approximately 1,530 feet downstream of Charles W. Anderson Loop) | None | *853 | Bexar County (Uninc. Areas), City of San Antonio.
| At Charles W. Anderson Loop | None | *865
French Creek | Approximately 1,500 feet upstream of Clyde Dent | None | *806 | Bexar County (Uninc. Areas), City of San Antonio.
| Approximately 1,040 feet downstream of Mainline Drive | None | *832
| At Charles W. Anderson Drive | *938 | *936
| Approximately 800 feet upstream of Circle North Trail | None | *980
Helotes Creek (at San Antonio) | At confluence with Culebra Creek | *852 | *853 | Bexar County (Uninc. Areas). City of San Antonio.
| At Leslie Road | *914 | *915
| Approximately 320 feet upstream of Bandera Road | *1,003 | *997
Huebner Creek | Approximately 220 feet upstream of Ingram Road | *763 | *765 | Bexar County (Uninc. Areas), City of San Antonio, City of Leon Valley.
| At Huebner Road | *843 | *841
| Approximately 320 feet upstream of DeZavala Road | None | *966
Huesta Creek | At confluence with Leon Creek | *911 | *915 | Bexar County (Uninc. Areas), City of San Antonio.
| Approximately 2,050 feet upstream of Charles W. Anderson Drive | *1,013 | *1,006
Leon Creek | At U.S. Highway 90 | *696 | *693 | Bexar County (Uninc. Areas), City of San Antonio.
| At U.S. Route 161 | *733 | *736
| Approximately 2,450 feet downstream of Route 16 | *824 | *824
| Approximately 1,100 feet upstream of Charles W. Anderson Drive | *991 | *993
Leon Creek Overflow | Approximately 1,125 feet downstream of West Prue Road | *888 | *888 | Bexar County (Uninc. Areas), City of San Antonio.
| At Babcock Road | *920 | *918
| Approximately 60 feet downstream of West Hausman Road | *953 | *953
Maverick Creek (Babcock Tributary) | At confluence with Leon Creek | *913 | *916 | Bexar County (Uninc. Areas), City of San Antonio.
| At Seco Creek Street | *1,010 | *1,014
| Approximately 1,750 feet upstream of Babcock Road | None | *1,137
Tributary B to Culebra Creek | At confluence with Culebra Creek | None | *920 | Bexar County (Uninc. Areas).
| Approximately 50 feet downstream of Galm Road | None | *950
ADDRESSES
Bexar County (Unincorporated Areas)
Maps are available for inspection at the Bexar County Public Works Department, 233 N. Pecos, Suite 420, San Antonio, Texas.
Send comments to The Honorable Cyndi Taylor Krier, Bexar County Judge, 100 Dolorosa, Suite 101, San Antonio, Texas 78205
City of Leon Valley
Maps are available for inspection at the Leon Valley City Hall, 6400 El Verde Road, San Antonio, Texas.
Send comments to The Honorable Marcy Meffert, Mayor, City of Leon Valley, 6400 El Verde Road, San Antonio, Texas 78328.
City of San Antonio
Maps are available for inspection at Municipal Plaza, 114 W. Commerce, Seventh Floor, San Antonio, Texas.
Send comments to The Honorable Howard W. Peak, Mayor, City of San Antonio, P.O. Box 839966, San Antonio, Texas 78283-3996.

(Catalog of Federal Domestic Assistance No. 83.100, “Flood Insurance.”)

Dated: June 18, 2001.
Robert F. Shea,
Acting Administrator, Federal Insurance Administration and Mitigation.

[FR Doc. 01-15926 Filed 6-25-01; 8:45 am]

BILLING CODE 6718-04-M